FEDERAL DEPOSIT INSURANCE CORPORATION

Notice of Termination of Receiverships

The Federal Deposit Insurance Corporation (FDIC or Receiver), as Receiver for each of the following insured depository institutions, was charged with the duty of winding up the affairs of the former institutions and liquidating all related assets. The Receiver has fulfilled its obligations and made all dividend distributions required by law.

Notice of Termination of Receiverships
Fund | Receivership name | City | State | Termination date
10311 | Cooper Star Bank | Scottsdale | AZ | 05/01/2021
10313 | Tifton Banking Company | Tifton | GA | 05/01/2021
10353 | Bartow County Bank | Cartersville | GA | 05/01/2021
10371 | McIntosh State Bank | Jackson | GA | 05/01/2021
10377 | High Trust Bank | Stockbridge | GA | 05/01/2021
10419 | The First State Bank | Stockbridge | GA | 05/01/2021
10426 | Central Bank of Georgia | Ellaville | GA | 05/01/2021

The Receiver has further irrevocably authorized and appointed FDIC-Corporate as its attorney-in-fact to execute and file any and all documents that may be required to be executed by the Receiver which FDIC-Corporate, in its sole discretion, deems necessary, including but not limited to releases, discharges, satisfactions, endorsements, assignments, and deeds. Effective on the termination dates listed above, the Receiverships have been terminated, the Receiver has been discharged, and the Receiverships have ceased to exist as legal entities.

(Authority: 12 U.S.C. 1819)

Federal Deposit Insurance Corporation.
Dated at Washington, DC, on May 5, 2021.
Debra A. Decker,
Deputy Executive Secretary.

[FR Doc. 2021-09868 Filed 5-7-21; 8:45 am]

BILLING CODE 6714-01-P